DEPARTMENT OF DEFENSE

Defense Acquisition Regulations System

48 CFR Parts 227 and 252

[Docket DARS-2020-0033]

RIN 0750-AK84

Defense Federal Acquisition Regulation Supplement: Small Business Innovation Research Program Data Rights (DFARS Case 2019-D043)

AGENCY: Defense Acquisition Regulations System, Department of Defense (DoD).

ACTION: Advance notice of proposed rulemaking; correction.

SUMMARY: On August 31, 2020, DoD published a notice requesting information to assist in the development of a revision to the Defense Federal Acquisition Regulation Supplement (DFARS) to implement the data rights portions of the Small Business Innovation Research Program and Small Business Technology Transfer Program Policy Directives. The document heading carried an incorrect Docket Number. This document reflects the correct Docket Number.

DATES: Comments for the advance notice of proposed rulemaking published on August 31, 2020, at 85 FR 53758, continue to be accepted on or before October 30, 2020, to be considered in the formulation of a proposed rule.

FOR FURTHER INFORMATION CONTACT: Ms. Jennifer L. Hawes, Defense Acquisition Regulations System, OUSD(A&S)DPC(DARS), Room 3B938, 3060 Defense Pentagon, Washington, DC 20301-3060. Telephone 571-372-6115.

SUPPLEMENTARY INFORMATION: On August 31, 2020, at 85 FR 53758, DoD published an advanced notice of proposed rulemaking. The document's heading contained an incorrect Docket number “DARS-2019-0043.” The correct Docket Number is “DARS-2020-0033” and is reflected in the heading of this correction.

Jennifer Lee Hawes,
Regulatory Control Officer, Defense Acquisition Regulations System.

[FR Doc. 2020-20761 Filed 9-18-20; 8:45 am]

BILLING CODE 5001-06-P